DEPARTMENT OF ENERGY

Federal Energy Regulatory Commission

[Project No. 606-000]

Pacific Gas and Electric Company (PG&E); Notice of Authorization for Continued Project Operation

April 10, 2007.

On March 23, 2007, the Pacific Gas and Electric Company, licensee for the Kilarc-Cow Creek Hydroelectric Project, filed a Proposed License Surrender Application Schedule. The Kilarc-Cow Creek Project is located on the Old Cow Creek and South Cow Creek in Shasta County, California.

The license for Project No. 606 was issued for a period ending March 27, 2007. Section 15(a)(1) of the FPA, 16 U.S.C. 808(a)(1), requires the Commission, at the expiration of a license term, to issue from year-to-year an annual license to the then licensee under the terms and conditions of the prior license until a new license is issued, or the project is otherwise disposed of as provided in section 15 or any other applicable section of the FPA.

Notice is hereby given that an annual license for Project No. 606 is issued to the Pacific Gas and Electric Company for a period effective April 2, 2007 through March 31, 2008, or until the issuance of a new license for the project or other disposition under the FPA, whichever comes first. If issuance of a new license (or other disposition) does not take place on or before March 31, 2008, notice is hereby given that, pursuant to 18 CFR 16.18(c), an annual license under section 15(a)(1) of the FPA is renewed automatically without further order or notice by the Commission, unless the Commission orders otherwise.

Kimberly D. Bose,
Secretary.

[FR Doc. E7-7163 Filed 4-13-07; 8:45 am]

BILLING CODE 6717-01-P